DEPARTMENT OF HOMELAND SECURITY

Federal Emergency Management Agency

[Docket ID FEMA-2025-0002; Internal Agency Docket No. FEMA-B-2502]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before May 27, 2025.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2502, to Rick Sacbibit, Chief, Engineering Services Branch, Risk Analysis, Planning & Information Directorate, FEMA, 400 C Street SW, Washington, DC 20472, (202) 646-7659, or (email) patrick.sacbibit@fema.dhs.gov.

FOR FURTHER INFORMATION CONTACT: Rick Sacbibit, Chief, Engineering Services Branch, Risk Analysis, Planning & Information Directorate, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Kristin E. Fontenot,
Assistant Administrator, Risk Analysis, Planning & Information Directorate, Federal Emergency Management Agency, Department of Homeland Security.

Community | Community map repository address
Berrien County, Michigan (All Jurisdictions)
Project: 23-05-0011S Preliminary Date: August 30, 2024
Charter Township of Benton | Benton Township Office, 1725 Territorial Road, Benton Harbor, MI 49022.
Charter Township of Coloma | Coloma Charter Township Office, 4919 Paw Paw Lake Road, Coloma, MI 49038.
Charter Township of Lincoln | Lincoln Township Hall, 2055 West John Beers Road, Stevensville, MI 49127.
Charter Township of Niles | Niles Township Hall, 320 Bell Road, Niles, MI 49120.
Charter Township of Oronoko | Oronoko Township Hall, 4583 East Snow Road, Berrien Springs, MI 49103.
Charter Township of St. Joseph | Township Hall, 3000 Washington Avenue, St. Joseph, MI 49085.
Charter Township of Watervliet | Watervliet Township Hall, 4959 M-140, Watervliet, MI 49098.
City of Benton Harbor | City Hall, 200 East Wall Street, Benton Harbor, MI 49022.
City of Buchanan | Buchanan City Hall, 302 North Redbud Trail, Buchanan, MI 49107.
City of Coloma | Coloma City Hall, 119 North Paw Paw Street, Coloma, MI 49038.
City of Niles | Niles City Hall, 333 North Second Street, Suite 301, Niles, MI 49120.
City of St. Joseph | St. Joseph City Hall, 700 Broad Street, St. Joseph, MI 49085.
City of Watervliet | Watervliet City Hall, 158 West Pleasant Street, Watervliet, MI 49098.
Township of Berrien | Berrien Township Office, 8916 M-140, Berrien Center, MI 49102.
Township of Bertrand | Bertrand Community Hall, 3835 Buffalo Road, Buchanan, MI 49107.
Township of Buchanan | Buchanan Township Hall, 15235 Main Street, Buchanan, MI 49107.
Township of Hagar | Hagar Township Hall, 3900 Riverside Road, Riverside, MI 49084.
Township of Royalton | Royalton Township Hall, 980 Miners Road, St. Joseph, MI 49085.
Township of Sodus | Sodus Township Office, 4056 King Drive, Sodus, MI 49126.
Village of Shoreham | Village of Shoreham Village Hall, 2120 Brown School Road, St. Joseph, MI 49085.
Cass County, Michigan (All Jurisdictions)
Project: 23-05-0013S Preliminary Date: March 27, 2024
City of Dowagiac | City Hall, 241 South Front Street, Dowagiac, MI 49047.
Township of Calvin | Calvin Township Hall, 18693 Mount Zion Street, Cassopolis, MI 49031.
Township of Jefferson | Jefferson Township Hall, 24725 Jefferson Center Street, Cassopolis, MI 49031.
Township of Lagrange | Lagrange Township Hall, 58253 M-62, Cassopolis, MI 49031.
Township of Marcellus | Township Hall, 463 W Main Street, Marcellus, MI 49067.
Township of Mason | Mason Township Hall, 17049 US Highway 12, Edwardsburg, MI 49112.
Township of Newberg | Newberg Township Hall, 13020 Born Street, Jones, MI 49061.
Township of Ontwa | Ontwa Township Hall, 26225 US Highway 12, Edwardsburg, MI 49112.
Township of Penn | Penn Township Hall, 60717 South Main Street, Vandalia, MI 49095.
Township of Pokagon | Pokagon Township Hall, 30683 Peavine Street, Dowagiac, MI 49047.
Township of Porter | Porter Township Hall, 69373 Baldwin Prairie Road, Union, MI 49130.
Township of Silver Creek | Silver Creek Township Hall, 32764 Dixon Street, Dowagiac, MI 49047.
Township of Volinia | Volinia City Hall, 53254 Goodenough Road, Marcellus, MI 49067.
Township of Wayne | Wayne Township Hall, 53950 Glenwood Road, Dowagiac, MI 49047.
Village of Cassopolis | Village Hall, 121 North Disbrow Street, Cassopolis, MI 49031.
Village of Edwardsburg | Village Hall, 26296 US Highway 12, Edwardsburg, MI 49112.
Village of Vandalia | Village Hall, 18035 State Street, Vandalia, MI 49095.

[FR Doc. 2025-02982 Filed 2-21-25; 8:45 am]

BILLING CODE 9110-12-P